DEPARTMENT OF ENERGY

Federal Energy Regulatory Commission

[Docket Nos. RT01-100-000, RT01-77-000, and RT01-75-000]

Regional Transmission Organizations, Southern Company Services, Inc., Entergy Services, Inc., et al.; Notice of Meeting on SeTrans RTO

January 7, 2002.

The SeTrans Sponsors ¹ have invited the Commission to participate in a meeting that will be held on January 14, 2002 from 1 p.m. to 5 p.m. and January 15, 2002, from 8:30 a.m. to 4 p.m. The meeting will be held at the Sheraton Gateway Hotel Atlanta Airport, 1900 Sullivan Road, Atlanta, Georgia 30337. The purpose of the meeting is to form a Stakeholder Advisory Committee to assist the development of the SeTrans RTO. Representatives of the Commission's staff will attend the meeting. Members of the public may attend. Further information about the meeting and a copy of the registration form is available at www.setransgrid.com.

¹ “SeTrans Sponsors” consists of Georgia Transmission Corporation, MEAG Power, Dalton Utilities, Entergy Corporation, South Mississippi Electric Power Association, City of Tallahassee, Jacksonville Electric Authority, South Carolina Public Service Authority, and Southern Companies.

During the course of the meeting, it is possible that discussions may overlap with issues pending in the above-captioned dockets. A summary of any such discussion will be placed in each of the listed dockets, if appropriate.

C.B. Spencer,
Acting Secretary.

[FR Doc. 02-839 Filed 1-11-02; 8:45 am]

BILLING CODE 6717-01-P